DEPARTMENT OF THE INTERIOR

National Park Service

[NPS-WASO-NAGPRA-12619; [PPWOCRADN0-PCU00RP14.R50000]

Notice of Inventory Completion: Central Washington University, Ellensburg, WA

AGENCY: National Park Service, Interior.

ACTION: Notice.

SUMMARY: Central Washington University has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Central Washington University. If no additional requestors come forward, transfer of control of the human remains to the non-Federally recognized Indian group stated in this notice may proceed.

DATES: Representatives of any Indian tribe or Native Hawaiian organization not identified in this notice that wish to request transfer of control of these human remains should submit a written request with information in support of the request to Central Washington University at the address in this notice by May 10, 2013.

ADDRESSES: Lourdes Henebry-DeLeon, Department of Anthropology Central Washington University, 400 East University Way, Ellensburg, WA 98926-7544, telephone (509) 963-2167.

SUPPLEMENTARY INFORMATION: Notice is here given in accordance with the Native American Graves Protection and Repatriation Act (NAGPRA), 25 U.S.C. 3003, of the completion of an inventory of human remains under the control of Central Washington University, Ellensburg, WA. The human remains were removed from Yakima County, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Central Washington University professional staff in consultation with representatives of the Confederated Tribes and Bands of the Yakama Nation; Confederated Tribes of the Colville Reservation; and the Wanapum Band of Priest Rapids, a non-Federally recognized Indian group.

History and Description of the Remains

On May 5, 1957, human remains representing, at minimum, one individual were removed from site 45-YK-13 in Yakima County, WA, by Mr. and Mrs. Cyril Davis, members of the Washington Archaeological Society (WAS), a local amateur archaeology group. The human remains consist of a cranium and mandible found at the north end of site 45-YK-13. Mr. Edward Nolan donated the cranium and mandible to the Thomas Burke Memorial Washington State Museum (Burke Museum) on September 29, 1959. The collection was formally accessioned by the Burke Museum in 1965 (Burke Accn. 1965-77). In 1974, the Burke Museum legally transferred the cranium and mandible to Central Washington University Department of Anthropology (CWU ID AA). No known individuals were identified. No associated funerary objects are present.

In 1958, Dr. Robert Greengo, University of Washington, recorded 45-YK-13 as a late prehistoric to historic site during an archaeological survey in the Priest Rapids and Wanapum Reservoirs. Dr. Greengo noted that prior to his work, the WAS dug a narrow test trench perpendicular to the river bank. This test trench was never formally reported, but Dr. Greengo was informed that some human bones had been found. Subsequently, those human remains were examined by physical anthropologist Lourdes Henebry-DeLeon of Central Washington University. “Priest Rapids” is written on the cranium. The morphology of the remains is consistent with individuals of Native American ancestry and the archaeological site context supports the Native American determination.

The Wanapum Band of Priest Rapids, a non-Federally recognized Indian group, maintains that, according to tradition, they have always inhabited the land area where the human remains were removed. Site 45-YK-13 lies within the ceded lands of the Confederated Tribes and Bands of the Yakama Nation in the Treaty of 1855, but none of the leaders of the Wanapum Band of Priest Rapids signed that treaty. The Wanapum Band of Priest Rapids continues to live near their ancient village site at P'na (Sharkey 1984: 69). In 1951, Harry Tomalawash and Johnny Buck describe P`na as being “upstream from the [first Priest Rapids power plant].* * * It means fish caught or fish trap. They used to catch fish there in P`na. It was a long trap made of willows. They put it into the water and it caught the fish.” (L.V. McWorter Collection, 1951). Beyond the foot of Priest Rapids and extending to the confluence of the Snake and Columbia Rivers, Relander reports that the Wanapums “had fifteen villages, the largest being Towmowtowee (Richland), Chanout (Hanford), and Tacht (White Bluffs).” He further states that from Kosith (Pasco) northward to Vantage, the Wanapum occupied another “thirty-five dwelling places” (Relander 1956:32).

Site 45-YK-13 is located within the area identified by the Indian Claims Commission as the aboriginal territory of the Wanapum Band of Priest Rapids. A. J. Splawn was one of the best informed early settlers in central Washington, and expert witnesses for petitioners and defendants with claims before the Indian Claims Commission relied on his writings (12 Ind. Cl. Comm. 301:324-325). The Indian Claims Commission (1963:325-326) found that “Mr. Splawn's writings concerning the areas of occupation of the various Indian tribes and bands within the claimed area substantiate and confirm much of the earlier recorded observations.” Mr. Splawn described the areas of occupation of the Wanapum to include: “Wi-nah-pams or Sokulks were Shahap-tam Indians and occupied both banks of the Columbia from a short distance above the mouth of the Yakima River to Saddle Mountain.” Splawn wrote that this band belonged to the Simcoe (Yakama) reservation but refused to move onto it, preferring to die where their bones might rest in the sand hills beside their ancestors. James Mooney (1896) wrote that the Wanapum “ranged along both banks of the Columbia from above Crab Creek down to the mouth of Snake River. The village where their chief Smohalla resided was on the west bank of the Columbia at the * * * foot of Priest's Rapids.”

At the time of the excavation and removal of these human remains, the land from which the remains were removed was not the tribal land of any Indian tribe or Native Hawaiian organization. Central Washington University consulted with all Indian tribes who are recognized as aboriginal to the area from which these Native American human remains were removed. These tribes are the Confederated Tribes and Bands of the Yakama Nation; Confederated Tribes of the Colville Reservation; and the Wanapum Band of Priest Rapids, a non-Federally recognized Indian group.

Pursuant to 43 CFR 10.11(c)(2)(ii), the Secretary of the Interior may make a recommendation for a transfer of control of culturally unidentifiable human remains with a “tribal land” or “aboriginal land” provenience to a non-Federally recognized Indian group. In September 2012, Central Washington University requested that the Secretary, through the Native American Graves Protection and Repatriation Review Committee, recommend the proposed transfer of control of the culturally unidentifiable Native American human remains to the Wanapum Band of Priest Rapids, a non-Federally recognized Indian group. The Review Committee, acting pursuant to its responsibility under 25 U.S.C. 3006(c)(5), considered the request at its November 2012 meeting and recommended to the Secretary that the proposed transfer of control proceed. A March 1, 2013 letter on behalf of the Secretary of Interior from the Designated Federal Official transmitted the Secretary's independent review and concurrence with the Review Committee that:

• Central Washington University consulted with every appropriate Indian tribe or Native Hawaiian organization,

• none of the Indian tribes or Native Hawaiian organizations agreed to accept control,

• none of the Indian tribes or Native Hawaiian organizations objected to the proposed transfer of control, and

• Central Washington University may proceed with the agreed-upon transfer of control of the culturally unidentifiable human remains to the Wanapum Band of Priest Rapids, a non-Federally recognized Indian group.

Transfer of control is contingent on the publication of a Notice of Inventory Completion in the Federal Register. This notice fulfills that requirement.

Determinations Made by Central Washington University

Officials of Central Washington University have determined that:

• Pursuant to 25 U.S.C. 3001(9), the human remains described in this notice are Native American based on morphology and archeological context.

• Pursuant to 25 U.S.C. 3001(9), the human remains described in this notice represent the physical remains of one individual of Native American ancestry.

• Pursuant to 25 U.S.C. 3001(2), a relationship of shared group identity cannot be reasonably traced between the Native American human remains and any present-day Indian tribe.

• Pursuant to 43 CFR 10.11(c)(2)(ii), the disposition of the human remains will be to the Wanapum Band of Priest Rapids, a non-Federally recognized Indian group.

Additional Requestors and Disposition

Representatives of any Indian tribe or Native Hawaiian organization not identified in this notice that wish to request transfer of control of these human remains should submit a written request with information in support of the request to Lourdes Henebry-DeLeon, Department of Anthropology Central Washington University, 400 East University Way, Ellensburg, WA, 98926-7544, telephone (509) 963-2167, by May 10, 2013. After that date, if no additional requestors have come forward, transfer of control of the human remains to the Wanapum Band of Priest Rapids, a non-Federally recognized Indian group, may proceed.

Central Washington University is responsible for notifying the Confederated Tribes and Bands of the Yakama Nation; Confederated Tribes of the Colville Reservation; and the Wanapum Band of Priest Rapids, a non-Federally recognized Indian group, that this notice has been published.

Dated: March 20, 2013.
Sherry Hutt,
Manager, National NAGPRA Program.

[FR Doc. 2013-08371 Filed 4-9-13; 8:45 am]

BILLING CODE 4312-70-P